DEPARTMENT OF DEFENSE

Office of the Secretary

[Docket ID: DoD-2012-OS-0115]

Privacy Act of 1974; System of Records

AGENCY: Defense Threat Reduction Agency, DoD.

ACTION: Notice to amend three Systems of Records.

SUMMARY: The Defense Threat Reduction Agency is amending three systems of records notices in its existing inventory of record systems subject to the Privacy Act of 1974 (5 U.S.C. 552a), as amended.

DATES: This proposed action will be effective on October 22, 2012 unless comments are received which result in a contrary determination. Comments will be accepted on or before October 19, 2012.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Juanita Gaines, Freedom of Information and Privacy Office, Defense Threat Reduction Agency, 8725 John J. Kingman Road, Fort Belvoir, VA 22060-6201 or by phone at (703) 767-1771.

SUPPLEMENTARY INFORMATION: The Defense Threat Reduction Agency systems of records notices subject to the Privacy Act of 1974 (5 U.S.C. 552a), as amended, have been published in the Federal Register and are available from the address in FOR FURTHER INFORMATION CONTACT.

The proposed changes to the records systems being amended are set forth below. The proposed amendments are not within the purview of subsection (r) of the Privacy Act of 1974 (5 U.S.C. 552a), as amended, which requires the submission of a new or altered system report.

Dated: September 14, 2012.
Aaron Siegel,
Alternate OSD Federal Register Liaison Officer, Department of Defense.

HDTRA 014

System name:

Student Records (May 9, 2007, 72 FR 26343).

Changes:

* * * * *

Contesting record procedures:

Delete and replace with “The DTRA rules for accessing records and for contesting contents and appealing initial agency determinations are published in DTRA Instruction 5400.11, DTRA privacy program; 32 CFR 318; or may be obtained from the Chief, Freedom of Information and Privacy Office, Defense Threat Reduction Agency, 8725 John J. Kingman Road, Fort Belvoir, VA 22060-6201.”

* * * * *

HDTRA 023

System name:

Reasonable Accommodation Program (July 9, 2007, 72 FR 37201).

Changes:

* * * * *

System manager(s) and address:

Delete and replace with “Chief, Freedom of Information and Privacy Office, Defense Threat Reduction Agency, 8725 John J. Kingman Road, Fort Belvoir, VA 22060-6201.”

Notification procedure:

Delete and replace with “Individuals seeking to determine whether information about themselves is contained in this system of records should submit a written request to the Chief, Freedom of Information and Privacy Office, Defense Threat Reduction Agency, 8725 John J. Kingman Road, Fort Belvoir, VA 22060-6201.

Request should contain individual's name, address, and proof of identity (photo identification or must provide a notarized statement or an unsworn declaration in accordance with 28 U.S.C. 1746, in the following format:

If executed outside the United States: ‘I declare (or certify, verify, or state) under penalty of perjury under the laws of the United States of America that the foregoing is true and correct. Executed on (date). (Signature).’

If executed within the United States, its territories, possessions, or commonwealths: ‘I declare (or certify, verify, or state) under penalty of perjury that the foregoing is true and correct. Executed on (date). (Signature).’ ”

Record access procedures:

Delete and replace with “Individuals seeking to access records about themselves contained in this system of records should address written inquiries to the Chief, Freedom of Information and Privacy Office, Defense Threat Reduction Agency, 8725 John J. Kingman Road, Fort Belvoir, VA 22060-6201.

Request should contain individual's name, address, and proof of identity (photo identification or must provide a notarized statement or an unsworn declaration in accordance with 28 U.S.C. 1746, in the following format:

If executed outside the United States: ‘I declare (or certify, verify, or state) under penalty of perjury under the laws of the United States of America that the foregoing is true and correct. Executed on (date). (Signature).’

If executed within the United States, its territories, possessions, or commonwealths: ‘I declare (or certify, verify, or state) under penalty of perjury that the foregoing is true and correct. Executed on (date). (Signature).’ ”

Contesting record procedures:

Delete and replace with “The DTRA rules for accessing records and for contesting contents, and appealing initial agency determinations are published in DTRA Instruction 5400.11, DTRA privacy program; 32 CFR 318; or may be obtained from the Chief, Freedom of Information and Privacy Office, Defense Threat Reduction Agency, 8725 John J. Kingman Road, Fort Belvoir, VA 22060-6201.”

* * * * *

HDTRA 024

System name:

Recall Roster (May 9, 2007, 72 FR 26344).

Changes:

* * * * *

System manager(s) and address:

Delete and replace with “Chief, Freedom of Information and Privacy Office, Defense Threat Reduction Agency, 8725 John J. Kingman Road, Fort Belvoir, VA 22060-6201.”

Notification procedure:

Delete and replace with “Individuals seeking to determine whether information about themselves is contained in this system of records should submit a written request to the Chief, Freedom of Information and Privacy Office, Defense Threat Reduction Agency, 8725 John J. Kingman Road, Fort Belvoir, VA 22060-6201.

Written requests should contain the individual's full name and duty station.”

Record access procedures:

Delete and replace with “Individuals seeking to access records about themselves contained in this system of records should address written inquiries to the Chief, Freedom of Information and Privacy Office, Defense Threat Reduction Agency, 8725 John J. Kingman Road, Fort Belvoir, VA 22060-6201.

Written requests should contain the individual's full name and duty station.”

Contesting record procedures:

Delete and replace with “The DTRA rules for accessing records and for contesting contents and appealing initial agency determinations are published in DTRA Instruction 5400.11, DTRA privacy program; 32 CFR 318; or may be obtained from the Chief, Freedom of Information and Privacy Office, Defense Threat Reduction Agency, 8725 John J. Kingman Road, Fort Belvoir, VA 22060-6201.”

Record source categories:

Delete and replace with “The individual and official personnel office documents containing point-of-contact information.”

* * * * *

[FR Doc. 2012-23068 Filed 9-18-12; 8:45 am]

BILLING CODE 5001-06-P